DEPARTMENT OF COMMERCE

International Trade Administration

[A-580-809]

Circular Welded Non-Alloy Steel Pipe From the Republic of Korea: Final Results of Antidumping Duty Administrative Review and Final Determination of No Shipments; 2020-2021

AGENCY: Enforcement and Compliance, International Trade Administration, Department of Commerce.

SUMMARY: The U.S. Department of Commerce (Commerce) determines that Husteel Co., Ltd. (Husteel) and certain producers/exporters subject to this administrative review made sales of circular welded non-alloy steel pipe (CWP) from the Republic of Korea (Korea) at less than normal value during the period of review (POR), November 1, 2020, through October 31, 2021. In addition, Commerce determines that NEXTEEL Co., Ltd. (NEXTEEL) did not make sales of subject merchandise in the United States at prices below NV during the POR.

DATES: Applicable June 9, 2023.

FOR FURTHER INFORMATION CONTACT: Dusten Hom, AD/CVD Operations, Office I, Enforcement and Compliance, International Trade Administration, U.S. Department of Commerce, 1401 Constitution Avenue NW, Washington, DC 20230; telephone: (202) 482-5075.

SUPPLEMENTARY INFORMATION:

Background

On December 5, 2022, Commerce published the Preliminary Results of this administrative review.¹ The review covers 24 producers and/or exporters of subject merchandise. We invited interested parties to comment on the Preliminary Results. A summary of the events that occurred since Commerce published the Preliminary Results, as well as a full discussion of the issues raised by parties for these final results, are discussed in the Issues and Decision Memorandum.² Commerce conducted this review in accordance with section 751(a) of the Tariff Act of 1930, as amended (the Act).

¹ See Circular Welded Non-Alloy Steel Pipe from the Republic of Korea: Preliminary Results of Antidumping Duty Administrative Review; 2020-2021, 87 FR 74402 (December 5, 2021) (Preliminary Results) and accompanying Preliminary Decision Memorandum (PDM).

² See Memorandum, “Issues and Decision Memorandum for the Final Results of the 2020-2021 Administrative Review of the Antidumping Duty Order on Circular Welded Non-Alloy Steel Pipe from the Republic of Korea,” dated concurrently with, and hereby adopted by, this notice (Issues and Decision Memorandum).

Scope of the Order ³

³ See Notice of Antidumping Duty Orders: Certain Circular Welded Non-Alloy Steel Pipe from Brazil, the Republic of Korea (Korea), Mexico, and Venezuela, and Amendment to Final Determination of Sales at Less Than Fair Value: Certain Circular Welded Non-Alloy Steel Pipe from Korea, 57 FR 49453 (November 2, 1992) (Order).

The merchandise subject to the Order is circular welded non-alloy steel pipe and tube. Imports of the product are currently classifiable in the Harmonized Tariff Schedule of the United States (HTSUS) under subheadings 7306.30.1000, 7306.30.5025, 7306.30.5032, 7306.30.5040, 7306.30.5055, 7306.30.5085, and 7306.30.5090. While the HTSUS subheadings are provided for convenience and customs purposes, the written description is dispositive. For a complete description of the scope of the Order, see the Issues and Decision Memorandum.⁴

⁴ Id.

Analysis of Comments Received

All issues raised in the case and rebuttal briefs filed by parties in this review are listed in Appendix I to this notice and addressed in the Issues and Decision Memorandum. The Issues and Decision Memorandum is a public document and is on file electronically via Enforcement and Compliance's Antidumping and Countervailing Duty Centralized Electronic Service System (ACCESS). ACCESS is available to registered users at https://access.trade.gov. In addition, a complete version of the Issues and Decision Memorandum can be accessed at https://access.trade.gov/public/FRNoticesListLayout.aspx.

Changes Since the Preliminary Results

For reasons explained in the Issues and Decision Memorandum, we made changes to the macros program to implement our intended methodology for cost recovery in quarterly cost and to no longer overwrite the home market sales control number (CONNUM) characteristics. Additionally, we changed the total cost of manufacturing variable “TTOTCOM” to “TOTCOM” in the comparison market program for consistency. For a more detailed discussion of the changes, see the Issues and Decision Memorandum.⁵

⁵ Id.

Rate for Non-Examined Companies

The statute and Commerce's regulations do not address the establishment of a rate to be applied to companies not selected for individual examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted average of the estimated weighted-average dumping margins established for exporters and producers individually investigated, excluding any zero or de minimis margins, and any margins determined entirely {on the basis of facts available}.” In this review, we calculated a weighted-average dumping margin for one of the mandatory respondents, Husteel, that is not zero, de minimis, or determined entirely on the basis of facts available. However, for the second mandatory respondent, NEXTEEL, we calculated a weighted-average dumping margin of zero. Accordingly, Commerce assigned Husteel's 12.87 percent weighted-average dumping margin to the companies not individually examined listed in Appendix II.⁶

⁶ With two respondents under examination, Commerce normally calculates: (A) a weighted-average of the dumping margins calculated for the examined respondents; (B) a simple average of the dumping margins calculated for the examined respondents; and (C) a weighted-average of the dumping margins calculated for the examined respondents using each company's publicly-ranged U.S. sale quantities for the merchandise under consideration. Commerce then compares (B) and (C) to (A) and selects the rate closest to (A) as the most appropriate rate for all other producers and exporters. See, e.g., Ball Bearings and Parts Thereof from France, Germany, Italy, Japan, and the United Kingdom: Final Results of Antidumping Duty Administrative Reviews, Final Results of Changed-Circumstances Review, and Revocation of an Order in Part, 75 FR 53661, 53663 (September 1, 2010).

Final Results of Review

We determine that the following weighted-average dumping margins exists for the period November 1, 2020 through October 31, 2021:

⁷ See Appendix II for a full list of these companies.

Producer/exporter | Weighted- average dumping margin (percent)
Husteel Co., Ltd | 12.87
NEXTEEL Co., Ltd | 0.00
Review-Specific Rate for Non-Examined Companies ⁷ | 12.87

Disclosure

We intend to disclose the calculations performed in connection with these final results to parties in this proceeding within five days of the date of publication of this notice, in accordance with 19 CFR 351.224(b).

Assessment Rates

Pursuant to section 751(a)(2)(C) of the Act and 19 CFR 351.212(b), Commerce shall determine, and CBP shall assess, antidumping duties on all appropriate entries of subject merchandise in accordance with the final results of this review. For any individually examined respondents whose weighted-average dumping margin is above de minimis, we calculated importer-specific ad valorem duty assessment rates based on the ratio of the total amount of antidumping duties calculated for the examined sales to the total entered value of the examined sales to that importer, and we will instruct CBP to assess antidumping duties on all appropriate entries covered by this. Where either the respondent's weighted-average dumping margin is zero or de minimis within the meaning of 19 CFR 351.106(c)(1), or an importer-specific assessment rate is zero or de minimis, we will instruct CBP to liquidate the appropriate entries without regard to antidumping duties.

For entries of subject merchandise during the POR produced by Husteel or NEXTEEL for which they did not know that the merchandise was destined to the United States, we will instruct CBP to liquidate those entries at the all-others rate of 4.80 percent, if there is no rate for the intermediate company(ies) involved in the transaction.⁸

⁸ See Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of subject merchandise entered, or withdrawn from warehouse, for consumption on or after the publication date of the final results of this administrative review in the Federal Register, as provided for by section 751(a)(2) of the Act: (1) the cash deposit rate for companies subject to this review will be the rates established in these final results of the review; (2) for merchandise exported by producers or exporters not covered in this review but covered in a prior segment of the proceeding, the cash deposit rate will continue to be the company-specific rate published for the most recent period; (3) if the exporter is not a firm covered in this review, a prior review, or the original investigation but the producer is, then the cash deposit rate will be the rate established for the most recent period for the producer of the merchandise; (4) the cash deposit rate for all other producers or exporters will continue to be 4.80 percent,⁹ the all-others rate established in the investigation. These cash deposit requirements, when imposed, shall remain in effect until further notice.

⁹ See Notice of Antidumping Duty Orders: Certain Circular Welded Non-Alloy Steel Pipe from Brazil, the Republic of Korea (Korea), Mexico, and Venezuela, and Amendment to Final Determination of Sales at Less Than Fair Value: Certain Circular Welded Non-Alloy Steel Pipe from Korea, 57 FR 49453 (November 2, 1992).

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties has occurred and the subsequent assessment of double antidumping duties.

Notification Regarding Administrative Protective Order

This notice also serves as a reminder to parties subject to administrative protective order (APO) of their responsibility concerning the return or destruction of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

Notification to Interested Parties

We are issuing and publishing this notice in accordance with sections 751(a)(1) and 777(i)(1) of the Act, and 19 CFR 351.221(b)(5).

Dated: June 2, 2023.
Lisa W. Wang,
Assistant Secretary for Enforcement and Compliance.

Appendix I

List of Topics Discussed in the Issues and Decision Memorandum

I. Summary

II. Background

III. Scope of the Order

IV. Changes Since the Preliminary Results

V. Discussion of the Issues

Comment 1: Whether Commerce Incorrectly Overwrote Control Numbers (CONNUM)

Comment 2: Whether Commerce Inconsistently Used the Field TOTCOM

Comment 3: Whether Commerce Erred in Applying its Differential Pricing Analysis

Comment 4: Whether Commerce Should Offset Constructed Export Price (CEP)

VI. Recommendation

Appendix II

List of Companies Not Individually Examined

1. Aju Besteel

2. Bookook Steel

3. Chang Won Bending

4. Dae Ryung

5. Daewoo Shipbuilding & Marine Engineering (Dsme)

6. Daiduck Piping

7. Dong Yang Steel Pipe

8. Dongbu Steel ¹⁰

¹⁰ This company is also known as Dongbu Steel Co., Ltd.

9. Eew Korea Company

10. Histeel ¹¹

¹¹ This company is also known as HiSteel Co., Ltd.

11. Hyundai Rb

12. Hyundai Steel Company ¹²

¹² This company is also known as Hyundai Steel Corporation; Hyundai Steel; and Hyundai Steel (Pipe Division).

13. Kiduck Industries

14. Kum Kang Kind

15. Kumsoo Connecting

16. Miju Steel Mfg.¹³

¹³ This company is also known as Miju Steel Manufacturing.

17. Samkang M&T

18. Seah Fs

19. Seah Steel ¹⁴

¹⁴ This company is also known as Seah Steel Corporation.

20. Steel Flower

21. Vesta Co., Ltd.

22. Ycp Co.

[FR Doc. 2023-12327 Filed 6-8-23; 8:45 am]

BILLING CODE 3510-DS-P